DEPARTMENT OF COMMERCE

Foreign-Trade Zones Board

[B-71-2017]

Foreign-Trade Zone (FTZ) 52—Suffolk County, New York; Authorization of Production Activity; Advanced Optowave Corporation; (Diode Pumped Solid State Laser Systems); Ronkonkoma, New York

On November 8, 2017, Advanced Optowave Corporation submitted a notification of proposed production activity to the FTZ Board for its facility within FTZ 52, Site 5, in Ronkonkoma, New York.

The notification was processed in accordance with the regulations of the FTZ Board (15 CFR part 400), including notice in the Federal Register inviting public comment (82 FR 55578, November 22, 2017). On March 12, 2018, the applicant was notified of the FTZ Board's decision that no further review of the activity is warranted at this time. The production activity described in the notification was authorized, subject to the FTZ Act and the FTZ Board's regulations, including Section 400.14.

Dated: March 12, 2018.
Andrew McGilvray,
Executive Secretary.

[FR Doc. 2018-05265 Filed 3-14-18; 8:45 am]

BILLING CODE 3510-DS-P